INTERNATIONAL TRADE COMMISSION

[Investigation No. 337-TA-1236 (Remand)]

Certain Polycrystalline Diamond Compacts and Articles Containing Same; Notice of a Final Determination Finding a Violation of Section 337 and Issuing a Limited Exclusion Order and a Cease and Desist Order; Termination of Investigation

AGENCY: U.S. International Trade Commission.

ACTION: Notice.

SUMMARY: Notice is hereby given that the U.S. International Trade Commission (“Commission”) has determined that respondents SF Diamond Co., Ltd. of Henan, China, and SF Diamond USA, Inc. of Spring, Texas (together, “SF Diamond”); Iljin Diamond Co., Ltd. of Seoul, Republic of Korea, Iljin Holdings Co., Ltd. of Seoul, Republic of Korea, Iljin USA Inc. of Houston, Texas, Iljin Europe GmbH of Eschborn, Germany, Iljin Japan Co., Ltd. of Tokyo, Japan, Iljin China Co., Ltd. of Shanghai, China (collectively, “Iljin”); Henan Jingrui New Material Technology Co., Ltd. (“Jingrui”) of Henan, China; Zhenzghou New Asia Superhard Materials Composite Co., Ltd. (“New Asia”) of Henan, China; International Diamond Services, Inc. (“IDS”) of Houston, Texas; CR Gems Superabrasives Co., Ltd. (“CR Gems”) of Shanghai, China; Fujian Wanlong Superhard Material Technology Co., Ltd. (“Wanlong”) of Fujian, China; Guangdong Juxin Materials Technology Co., Inc. (“Juxin”) of Guangdong, China; and Shenzhen Haimingrun Superhard Materials Co., Ltd. (“Haimingrun”) of Guangdong, China have violated section 337 of the Tariff Act of 1930, as amended, by importing, selling for importation, or selling in the United States after importation certain polycrystalline diamond compacts and articles containing the same that infringe one or more of asserted claims 1, 2, 11, 15 and 21 of U.S. Patent No. 10,508,502 (“the '502 patent”). The Commission has determined that the appropriate remedies are a limited exclusion order (“LEO”) against the above-identified respondents and a cease and desist order (“CDO”) against SF Diamond USA, Inc. The Commission has also determined to set a bond in the amount of zero percent (0%) of the entered value of the excluded products imported during the period of Presidential review. This investigation is hereby terminated.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 29, 2020, based on a complaint filed by US Synthetic Corporation (“USS” or “Complainant”) of Orem, Utah. 85 FR 85661 (Dec. 29, 2020). The complaint alleged violations of section 337 of the Tariff Act of 1930, as amended, 19 U.S.C. 1337, based upon the importation into the United States, the sale for importation, and the sale within the United States after importation of certain polycrystalline diamond compacts and articles containing same by reason of infringement of certain claims of the '502 patent; U.S. Patent No. 10,507,565 (“the '565 patent”); U.S. Patent No. 8,616,306 (“the '306 patent”); U.S. Patent No. 9,932,274 (“the '274 patent”); and U.S. Patent No. 9,315,881 (“the '881 patent”). Id. The complaint further alleged that an industry in the United States exists as required by section 337. Id. The notice of investigation named as respondents: SF Diamond; Element Six Abrasives Holdings Ltd. of London, United Kingdom, Element Six Global Innovation Centre of Oxfordshire, United Kingdom, Element Six GmbH of Burghaun, Germany, Element Six Limited of Springs, South Africa, Element Six Production (Pty) Limited of Shannon, Ireland, Element Six Hard Materials (Wuxi) Co. Limited of Meicun, China, Element Six Trading (Shanghai) Co. of Shanghai, China, Element Six Technologies US Corporation of Santa Clara, California, Element Six US Corporation of Spring, Texas, ServSix US of Orem, Utah, and Synergy Materials Technology Limited of Hong Kong, China (collectively, “Element Six”); Iljin; Jingrui; New Asia; IDS; CR Gems; FIDC Beijing Fortune International Diamond (“FIDC”) of Beijing, China; Wanlong; Zhuhai Juxin Technology of Guangdong, China; and Haimingrun. Id. at 85662. The Office of Unfair Import Investigations did not participate in the investigation. Id.

Respondents Element Six and FIDC were terminated from the investigation before the evidentiary hearing. See Order No. 6 (Feb. 1, 2021), unreviewed by Comm'n Notice (Feb. 16, 2021); Order No. 10 (Feb. 24, 2021), unreviewed by Comm'n Notice (Mar. 15, 2021); and Order No. 16 (Apr. 1, 2021), unreviewed by Comm'n Notice (Apr. 15, 2021). On February 8, 2021, Juxin was substituted in place of Zhuhai Juxin Technology. See Order No. 8 (Feb. 8, 2021), unreviewed by Comm'n Notice (Feb. 24, 2021). Thus, the only remaining respondents are Iljin, SF Diamond, New Asia, IDS, Haimingrun, Juxin, CR Gems, Jingrui, and Wanlong (together, “Respondents”).

The '274 and '881 patents and certain other asserted patent claims were terminated from the investigation. See Order No. 26 (Jul. 14, 2021), unreviewed by Comm'n Notice (Aug. 11, 2021); Order No. 32 (Aug. 9, 2021), unreviewed by Comm'n Notice (Aug. 20, 2021); and Order No. 57 (Oct. 19, 2021), unreviewed by Comm'n Notice (Nov. 4, 2021).

An evidentiary hearing took place during the week of October 18-22, 2021.

On March 3, 2022, the presiding administrative law judge (“ALJ”) issued his final initial determination (“ID”), finding no violation of section 337 by Respondents as to the asserted claims of the '565, '502, and '306 patents. The ALJ also issued his recommended determination on remedy and bonding in this investigation.

On May 9, 2022, the Commission adopted the final ID's finding of no violation as to the '306 patent and reviewed certain findings of the final ID with respect to the '565 patent and the '502 patent. 87 FR 29375-377 (May 13, 2022). Id. The Commission also asked the parties to brief certain issues under review and requested the parties, interested government agencies, and other interested persons to brief issues of remedy, the public interest, and bonding. The parties filed timely initial submissions and reply submissions. The Commission did not receive comments from the public on any public interest issues raised by the ALJ's recommended relief.

On October 3, 2022, the Commission issued a final determination affirming with modifications the final ID's finding that all asserted claims are patent ineligible under 35 U.S.C. 101, that the asserted claims of the '565 patent are invalid as anticipated, and that Respondents failed to prove the asserted claims were not enabled under 35 U.S.C. 112. Having affirmed the final ID's findings that the asserted claims were patent ineligible and/or invalid, the Commission took no position on the economic prong of the domestic industry requirement. Accordingly, the Commission found no violation of section 337 as to the '565 and the '502 patents and terminated the investigation.¹

¹ Commissioner Schmidtlein dissented from the Majority's decision to affirm the final ID's section 101 findings.

USS timely appealed the Commission's patent ineligibility findings with respect to the '502 patent, but did not appeal the '565 patent, to the U.S. Court of Appeals for the Federal Circuit (“Federal Circuit” or “Court”). Respondents Iljin, SF Diamond, New Asia, IDS, Haimingrun, and Juxin (collectively, “Intervenors”) intervened in the appeal and argued in the alternative that the asserted claims of the '502 patent are not enabled under section 112.

On February 13, 2025, the Federal Circuit reversed the Commission's conclusion that the asserted claims of the '502 patent are patent ineligible under section 101 and affirmed the Commission's enablement conclusion. The Court remanded for further proceedings.

Intervenors filed a combined petition for panel rehearing and rehearing en banc, which the Court denied on May 20, 2025. Intervenors also filed a motion to stay the mandate, which was denied on May 29, 2025. The Court issued its formal mandate on May 29, 2025, returning jurisdiction to the Commission for further proceedings.

On June 5, 2025, the Commission requested written submissions from the parties to address the specific proceedings to be conducted on remand. USS and Respondents filed timely initial and response submissions. Respondents also moved for leave to file out of time an exhibit referenced in their initial remand submission. The Chair subsequently approved the request.

Upon review of the evidence of record, the Federal Circuit's decision on appeal, and the parties' submissions, the Commission finds that Respondents Iljin, SF Diamond, New Asia, IDS, Haimingrun, Juxin, CR Gems, Jingrui, and Wanlong have violated section 337 by importing into the United States, selling for importation, or selling in the United States after importation certain polycrystalline diamond compacts and articles containing the same that infringe one or more of the asserted claims 1, 2, 11, 15 and 21 of the '502 patent. As set forth in the accompanying Opinion, the Commission affirms with modifications the ALJ's decision to allow USS to supplement its contentions with a new domestic industry allocation method in accordance with the procedural schedule set forth in this investigation. The Commission also affirms the final ID's finding that the economic prong has been satisfied under prong (B) of section 337(a)(3) and takes no position on prongs (A) and (C) of section 337(a)(3). The Commission has determined that the appropriate remedy is: (i) an LEO prohibiting Respondents from importing certain polycrystalline diamond compacts and articles containing the same that infringe one or more of the asserted claims 1, 2, 11, 15, and 21 of the '502 patent; and (ii) a CDO against SF Diamond USA, Inc. The Commission has determined that the public interest factors do not preclude issuance of a remedy. The Commission has determined to set a bond in the amount of zero percent (0%) of the entered value of the infringing products imported during the period of Presidential review (19 U.S.C. 1337(j)). The Commission issues its opinion herewith setting forth its determinations on certain issues. This investigation is hereby terminated. The Commission's orders and opinion were delivered to the President and United States Trade Representative on the day of their issuance.

The Commission vote for this determination took place on December 4, 2025.

The authority for the Commission's determination is contained in section 337 of the Tariff Act of 1930, as amended, 19 U.S.C. 1337, and in Part 210 of the Commission's Rules of Practice and Procedure, 19 CFR part 210.

By order of the Commission.
Issued: December 4, 2025.
Lisa Barton,
Secretary to the Commission.

[FR Doc. 2025-22313 Filed 12-8-25; 8:45 am]

BILLING CODE 7020-02-P